FEDERAL RESERVE SYSTEM

12 CFR Part 264b

[Docket No. R-1174]

Rules Regarding Foreign Gifts and Decorations

AGENCY: Board of Governors of the Federal Reserve System.

ACTION: Final rule.

SUMMARY: The Board is revising its Rules Regarding Foreign Gifts and Decorations, which govern the acceptance, retention, and disposition of gifts and decorations from foreign governments by Board employees under the Foreign Gifts and Decorations Act of 1966, as amended (“Act”). The revisions reorganize and update the language of the existing rules, update the internal procedures of the Office of the Secretary, augment practices for complying with the Act, and delegate certain approval and enforcement authority. The substantive requirements for compliance with the rules remain unchanged.

EFFECTIVE DATE: The final rule is effective January 9, 2004.

FOR FURTHER INFORMATION CONTACT: Robert deV. Frierson, Deputy Secretary of the Board, Board of Governors of the Federal Reserve System, Washington, DC at (202) 452-3711. For users of Telecommunications Device for the Deaf (TDD) only, contact (202) 263-4869.

SUPPLEMENTARY INFORMATION: Section 515(a)(1) of the Foreign Relations Authorization Act, Fiscal Year 1978, amended the Foreign Gifts and Decorations Act of 1966 (5 U.S.C. 7342), making substantial changes to the law governing acceptance and retention of gifts and decorations from foreign governments. In 1979, the Board implemented these changes by adopting its Rules Regarding Foreign Gifts and Decorations (12 CFR part 264b).

The final rule updates the organization and language of the existing rules to make them easier to understand. In addition, it augments practices for complying with the Act, which include aggregating the value of all tangible gifts presented at or marking an event for purposes of applying the minimal-value threshold ($285 or less, adjusted every three years for inflation), but not aggregating the total value of tangible gifts received at two or more events, even if on the same day. The revisions also clarify that gifts of travel or travel expenses of more than minimal value for travel taking place entirely outside the United States are accepted in accordance with specific instructions of the Board if preapproved by the Administrative Governor or the Administrative Governor's designee. Gifts of travel or travel expenses accepted without such prior approval must be reported to the Office of the Secretary and must receive after-the-fact approval, or the Board employee is personally liable to repay the expenses.

The final rule also delegates to the Administrative Governor (or designee) the authority to approve acceptance and retention of decorations and to report, after consultation with the General Counsel, to the Attorney General cases in which there is reason to believe that a Board employee has violated the Act. The Office of the Secretary is delegated the authority to approve and retain tangible gifts of more than minimal value for official use.

Regulatory Flexibility Act

This final rule relates solely to the internal management, operations, and personnel of the Board and, therefore, is exempt from notice and comment under 5 U.S.C. 533(a)(2). Accordingly, the Regulatory Flexibility Act (5 U.S.C. 601 et seq.) does not apply and a regulatory flexibility analysis is not required.

Paperwork Reduction Act

In accordance with the Paperwork Reduction Act of 1995 (44 U.S.C. 3506; 5 CFR 1320 appendix A.1), the Board reviewed the final rule under the authority delegated to the Board by the Office of Management and Budget. No collections of information pursuant to the Paperwork Reduction Act are contained in the final rule.

Plain Language

Section 722 of the Gramm-Leach-Bliley Act (12 U.S.C. 4809) requires the Board to use “plain language” in all rules published in the Federal Register after January 1, 2000. The Board believes that the final rule is simple and straightforward and is consistent with this “plain language” directive.

List of Subjects in 12 CFR Part 264b

Decorations, medals, awards, Foreign relations, Government employees, Government property.

Authority and Issuance

For the reasons set forth in the preamble, revise part 264b of title 12 of the Code of Federal Regulations to read as follows:

PART 264b—RULES REGARDING FOREIGN GIFTS AND DECORATIONS

Sec.
264b.1 Purpose and scope.
264b.2 Definitions.
264b.3 Restrictions on acceptance of gifts and decorations.
264b.4 Gifts of minimal value.
264b.5 Gifts of more than minimal value.
264b.6 Requirements for gifts of more than minimal value.
264b.7 Decorations.
264b.8 Disposition or retention of gifts and decorations deposited with the Office of the Secretary.
264b.9 Enforcement.
264b.10 Certain grants excluded.

Authority: 5 U.S.C. 552, 7342; 12 U.S.C. 248(i).

§ 264b.1 Purpose and scope.

These rules govern when Board employees, their spouses, and their dependents may accept and retain gifts and decorations from foreign governments under the Foreign Gifts and Decorations Act of 1966, as amended (5 U.S.C. 7342) (“Act”).

§ 264b.2 Definitions.

When used in this part, the following terms have the meanings indicated:

(a) Board employees means:

(1) Members of the Board of Governors of the Federal Reserve System (“Board”), officers, and other employees of the Board, including experts or consultants while employed by, and acting on behalf of, the Board; and

(2) Spouses (unless separated) or dependents (within the meaning of section 152 of the Internal Revenue Code of 1986 (26 U.S.C. 152)) of such persons.

(b) Foreign government means:

(1) Any unit of foreign governmental authority, including any foreign national, State, local, or municipal government;

(2) Any international or multinational organization whose membership is composed of any unit of foreign government as described in paragraph (b)(1) of this section; and

(3) Any agent or representative of any such unit or organization, while acting as such.

(c) Gift means a tangible or intangible present (other than a decoration) tendered by, or received from, a foreign government.

(d) Decoration means an order, device, medal, badge, insignia, emblem, or award tendered by, or received from, a foreign government.

(e) Minimal value means retail value in the United States at the time of acceptance of $285 or less as of January 1, 2002, and at 3-year intervals thereafter, as redefined in regulations prescribed by the Administrator of General Services, in consultation with the Secretary of State, to reflect changes in the consumer price index for the immediately preceding 3-year period.

(f) Administrative Governor means the Board member serving as the Administrative Governor and includes persons designated by the Administrative Governor to exercise the authority granted under this part in the governor's absence.

§ 264b.3 Restrictions on acceptance of gifts and decorations.

(a) Board employees are prohibited from requesting or otherwise encouraging the tender of a gift or decoration from a foreign government.

(b) Board employees are prohibited from accepting a gift or decoration from a foreign government, except in accordance with this part.

§ 264b.4 Gifts of minimal value.

(a) Board employees may accept and retain a gift of minimal value tendered and received as a souvenir or mark of courtesy. If more than one tangible gift is presented at or marks an event, the value of all such gifts must not exceed “minimal value.” If tangible gifts are presented at or mark separate events, their value must not exceed “minimal value” for each event, but may exceed “minimal value” for all events, even if the events occur on the same day.

(b) Board employees may determine at the time a gift is offered whether it is of minimal value, or they may submit an accepted gift as soon as practicable to the Office of the Secretary for valuation.

(c) Disagreements over whether a gift is of minimal value will be resolved by an independent appraisal under procedures established by the Office of the Secretary.

§ 264b.5 Gifts of more than minimal value.

(a) Educational scholarships or medical treatment. Board employees may accept and retain gifts of more than minimal value when such gifts are in the nature of an educational scholarship or medical treatment.

(b) Travel or travel expenses. Board employees may accept gifts of travel or expenses for travel taking place entirely outside the United States (such as transportation, food, and lodging) of more than minimal value if appropriate, consistent with the interests of the United States, and permitted by the Board under paragraph (b)(1) or (b)(2) of this section.

(1) Board employees may accept gifts of travel or expenses for travel under paragraph (b) of this section in accordance with specific instructions of the Board, as evidenced by the prior approval of the Administrative Governor. Board employees must request prior approval under procedures established by the Office of the Secretary.

(2) Board employees may accept gifts of travel or expenses for travel under paragraph (b) of this section without the prior approval of the Administrative Governor if such expenses are reported under § 264b.6(b) and the Administrative Governor approves their acceptance after the fact. Board employees must personally repay gifts of travel or expenses for travel of more than minimal value that are not approved by the Administrative Governor.

(c) Other gifts. (1) Board employees may typically regard the refusal of gifts of more than minimal value at the inception (when offered or received without a prior offer) as consistent with the interests and general policy of the United States.

(2) Board employees may accept gifts of more than minimal value when it appears that refusal would likely cause offense or embarrassment or otherwise adversely affect the foreign relations of the United States. Tangible gifts are considered to have been accepted on behalf of the United States and become the property of the United States on acceptance. Accordingly, they must be deposited and documented in accordance with § 264b.6(a) and can only be returned or otherwise processed by the Office of the Secretary under § 264b.8.

§ 264b.6 Requirements for gifts of more than minimal value.

(a) Tangible gifts. Board employees must deposit tangible gifts of more than minimal value with the Office of the Secretary within 60 days of acceptance and assist in preparing a statement that contains the following information for each gift:

(1) The name and position of the Board employee;

(2) A brief description of the gift and the circumstances justifying acceptance;

(3) The identity, if known, of the foreign government and the name and position of the individual who presented the gift;

(4) The date of acceptance of the gift;

(5) The estimated value in the United States of the gift at the time of acceptance; and

(6) The disposition or current location of the gift.

(b) Travel or travel expenses without prior approval. Board employees who accept a gift of travel or expenses for travel under § 264b.5(b)(2) without the prior approval of the Administrative Governor must submit a report to the Office of the Secretary within 30 days of acceptance that contains the following information:

(1) The name and position of the Board employee;

(2) A brief description of the gift, including its estimated value, and the circumstances justifying acceptance; and

(3) The identity, if known, of the foreign government and the name and position of the individual who presented the gift.

(c) Reports to the Secretary of State. The Office of the Secretary must report the information contained in the statements described in paragraphs (a) and (b) of this section to the Secretary of State, who must publish in the Federal Register not later than January 31 of each year a comprehensive listing of all such statements for gifts of more than minimal value that were received by federal employees during the preceding year.

§ 264b.7 Decorations.

(a) Board employees may accept, retain, and wear a decoration tendered or awarded by a foreign government in recognition of active field service in time of combat operations or for other outstanding or unusually meritorious performance, subject to the approval of the Administrative Governor. Requests for approval must be submitted to the Office of the Secretary and contain a statement of the circumstances surrounding the award and include any accompanying documentation. The recipient may retain the decoration pending action on the request.

(b) Decorations accepted by Board employees without the approval of the Administrative Governor are considered to have been accepted on behalf of the United States and must be deposited within 60 days of the decoration's acceptance with the Office of the Secretary for disposition or retention under § 264b.8.

§ 264b.8 Disposition or retention of gifts and decorations deposited with the Office of the Secretary.

(a) The Office of the Secretary may dispose of gifts and decorations deposited under §§ 264b.6(a) and 264b.7(b) by returning them to the donors or by handling them in accordance with instructions from the General Services Administration under applicable law.

(b) The Office of the Secretary may approve and retain gifts and decorations deposited under §§ 264b.6(a) and 264b.7(b) for official use. The Office of the Secretary must dispose of a gift within 30 days of the termination of its official use in accordance with instructions from the General Services Administration under applicable law.

§ 264b.9 Enforcement.

(a) The Administrative Governor, after consultation with the General Counsel, must report to the Attorney General cases in which there is reason to believe that a Board employee has violated the Act.

(b) The Attorney General may bring a civil action in any district court of the United States against a Board employee who knowingly solicits or accepts a gift from a foreign government in violation of the Act, or who fails to deposit or report such a gift as required by the Act. The court may assess a maximum penalty of the retail value of a gift improperly solicited or received plus $5,000.

§ 264b.10 Certain grants excluded.

This part does not apply to grants and other forms of assistance to which § 108A of the Mutual Educational and Cultural Exchange Act of 1961 applies. See 22 U.S.C. 2458a.

By order of the Board of Governors of the Federal Reserve System, December 4, 2003.
Jennifer J. Johnson,
Secretary of the Board.

[FR Doc. 03-30632 Filed 12-9-03; 8:45 am]

BILLING CODE 6210-02-P